DEPARTMENT OF TRANSPORTATION

Office of the Secretary

[Order 2000-1-27; Dockets OST-99-6221 and OST-99-6222]

Applications of Ameristar Air Cargo, Inc. for New Certificate Authority

AGENCY: Department of Transportation.

ACTION: Notice of Order to Show Cause.

SUMMARY: The Department of Transportation is directing all interested persons to show cause why it should not issue orders (1) finding Ameristar Air Cargo, Inc., fit, willing, and able, and (2) awarding it certificates of public convenience and necessity to engage in interstate and foreign charter air transportation of property and mail.

DATES: Persons wishing to file objections should do so no later than February 11, 2000.

ADDRESSES: Objections and answers to objections should be filed in Dockets OST-99-6221 and OST-99-6222 and addressed to the Department of Transportation Dockets (SVC-124, Room PL-401), U.S. Department of Transportation, 400 Seventh Street, SW., Washington, DC 20590 and should be served upon the parties listed in Attachment A to the order.

FOR FURTHER INFORMATION CONTACT: Mrs. Kathy Lusby Cooperstein, Air Carrier Fitness Division (X-56, Room 6401), U.S. Department of Transportation, 400 Seventh Street, SW., Washington, DC 20590, (202) 366-2337.

Dated: January 31, 2000.
Robert S. Goldner,
Acting Deputy Assistant Secretary for Aviation and International Affairs.

[FR Doc. 00-2409 Filed 2-2-00; 8:45 am]

BILLING CODE 4910-62-P